DEPARTMENT OF COMMERCE

National Oceanic and Atmospheric Administration

Proposed Information Collection; Comment Request; Economic Value of Puerto Rico's Coral Reef Ecosystems for Recreation-Tourism

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 15, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Dr. Vernon R. (Bob) Leeworthy, (301) 713-7261 or Bob.Leeworthy@noaa.gov.

SUPPLEMENTARY INFORMATION:

I. Abstract

This request is for a regular submission (new collection).

NOAA and the U.S. Environmental Protection Agency (EPA) have entered a partnership to estimate the market and non-market economic values of Puerto Rico's coral reef ecosystems. Estimates will be made for all ecosystem services for the Guanica Bay Watershed and for recreation-tourism for all of Puerto Rico's coral reef ecosystems.

The required information is to conduct focus groups to help in designing the full surveys of visitors and residents of Puerto Rico. The four focus groups; two visitor and two resident focus groups, will be used to address the attributes of coral reef ecosystems that people may consider important, and the levels of the attributes to be valued. Attributes would include natural attributes such as water clarity/visibility, coral cover and diversity, and fish abundance and diversity. In addition, issues such as crowded conditions that users (e.g. SCUBA divers, snorkelers, recreational fishers, and wildlife viewers) see while doing their activities on the reefs will be evaluated. This set of focus groups will be conducted one-time only.

II. Method of Collection

Four focus groups will be conducted, two for visitors and two for residents of Puerto Rico. Each focus group will consist of eight people. Focus groups will be conducted at a suitable facility where they will engage in open discussions about reef attributes. Some paper forms, photos and illustrations describing reef attributes will be presented. Focus group sessions will last about two hours per session and will be recorded for the research team (video and audio).

III. Data

OMB Control Number: 0648-XXXX.

Form Number: None.

Type of Review: Regular submission (new information collection).

Affected Public: Individuals or households.

Estimated Number of Respondents: 32.

Estimated Time per Response: 2 hours per focus group member.

Estimated Total Annual Burden Hours: 64.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 8, 2012.
Gwellnar Banks,
Management Analyst, Office of the Chief Information Officer.

[FR Doc. 2012-19848 Filed 8-13-12; 8:45 am]

BILLING CODE 3510-NK-P